ENVIRONMENTAL PROTECTION AGENCY

[ER-FRL-9022-9]

Environmental Impact Statements; Notice of Availability

Responsible Agency: Office of Federal Activities, General Information (202) 564-7146 or http://www2.epa.gov/nepa.

Weekly receipt of Environmental Impact Statements

Filed 09/07/2015 Through 09/11/2015

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20150259, Final, FRA, NC, Southeast High Speed Rail, Richmond, VA, to Raleigh, NC, Review Period Ends: 10/19/2015, Contact: John Winkle 202-493-6067.

EIS No. 20150260, Final, BR, CA, Central Valley Project Municipal and Industrial Water Shortage Policy, Review Period Ends: 10/19/2015, Contact: Timothy Rust 916-978-5516.

EIS No. 20150261, Final, DOE, HI, PROGRAMMATIC—Hawaii Clean Energy, Review Period Ends: 10/19/2015, Contact: Dr. Jane Summerson 800-472-2756.

EIS No. 20150262, Final, USFWS, VA, Chincoteague and Wallops Island National Wildlife Refuge Final CCP, Review Period Ends: 10/19/2015, Contact: Thomas Bonetti 413-253-8307.

EIS No. 20150263, Draft, BLM, USFS, ID, Draft Environmental Impact Statement Rasmussen Valley Mine, Comment Period Ends: 11/02/2015, Contact: Bill Volk 208-236-7503. The U.S. Department of the Interior's Bureau of Land Management and the U.S. Department of Agriculture's Forest Service are joint lead agencies for this project.

EIS No. 20150264, Final, FHWA, TN, Pellissippi Parkway Extension (State Route 162) from State Route 33 (Old Knoxville Highway) to US 321/State Route 73/Lamar Alexander Parkway, Review Period Ends: 10/19/2015, Contact: Theresa Claxton 615-781-5770.

Amended Notices

EIS No. 20150199, Draft, OSM, Other, Stream Protection Rule, Comment Period Ends: 10/26/2015, Contact: Robin Ferguson 202-208-2802 Revision to FR Notice Published 07/24/2015; Extending Comment Period from 09/15/2015 to 10/26/2015.

Dated: September 15, 2015.
Dawn Roberts,
Management Analyst, NEPA Compliance Division, Office of Federal Activities.

[FR Doc. 2015-23490 Filed 9-17-15; 8:45 am]

BILLING CODE 6560-50-P